DEPARTMENT OF THE TREASURY

Internal Revenue Service

Open Meeting of the Taxpayer Advocacy Panel Notice Improvement Issue Committee; Correction

AGENCY: Internal Revenue Service (IRS), Treasury.

ACTION: Correction to a notice of an open meeting.

SUMMARY: This document contains corrections to a notice of an open meeting of the Taxpayer Advocacy Panel Notice Improvement Issue Committee, that was published in the Federal Register on Tuesday, June 2, 2009 (74 FR 26483). The Taxpayer Advocacy Panel is soliciting public comments, ideas, and suggestions on improving customer service at the Internal Revenue Service.

FOR FURTHER INFORMATION CONTACT: Sallie Chavez, 1-888-912-1227, or 954-423-7979 (not a toll free number).

SUPPLEMENTARY INFORMATION:

Background

The notice of an open meeting that is the subject of this correction is hereby given pursuant to section 10(a)(2) of the Federal Advisory Committee Act, 5 U.S.C. App. (1988).

Need for Correction

As published, the notice of an open meeting of the Taxpayer Advocacy Panel Notice Improvement Issue Committee contains an error that may prove to be misleading and is in need of clarification.

Correction of Publication

Accordingly, the notice of an open meeting of the Taxpayer Advocacy Panel Notice Improvement Issue Committee, that was the subject of FR Doc. E9-12764, is corrected as follows:

On Page 36483, column 2, under the caption SUPPLEMENTARY INFORMATION, line 9, the language “and Friday 8 a.m. to 3 p.m. Central Time” is corrected to read “and Friday 8 a.m. to 3 p.m. Eastern Time.”

LaNita VanDyke,
Chief, Publications and Regulations Branch, Legal Processing Division, Associate Chief Counsel, Procedure and Administration.

[FR Doc. E9-13797 Filed 6-11-09; 8:45 am]

BILLING CODE 4830-01-P